FEDERAL COMMUNICATIONS COMMISSION

[OMB 3060-0999; FR ID 238162]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before September 13, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-0999.

Title: Hearing Aid Compatibility Status Report and Section 20.19, Hearing Aid-Compatible Mobile Handsets (Hearing Aid Compatibility Act).

Form Numbers: FCC Forms 655 and 855.

Type of Review: Extension of a currently approved collection.

Respondents: Business or other for-profit entities.

Number of Respondents: 934 respondents; 934 responses.

Estimated Time per Response: 13.97 hours per response (average).

Frequency of Response: On occasion and annual reporting requirements; Recordkeeping requirement; Third party disclosure requirement.

Obligation to Respond: Required to obtain or retain benefits. Statutory authority for this information collection is contained in 47 U.S.C. 151, 154(i), 157, 160, 201, 202, 214, 301, 303, 308, 309(j), 310 and 610 of the Communications Act of 1934, as amended.

Total Annual Burden: 13,049 hours.

Total Annual Cost: No cost.

Needs and Uses: The Commission is requesting that OMB grant it a three-year extension of the currently approved information collection related to the Commission's wireless hearing aid compatibility requirements located in section 20.19 of the Commission's rules. 47 CFR 20.19. OMB's approval of the information collection contain in these rules expires on October 31, 2024. While the Commission is not requesting approval of any substantive changes to the information collection, it is requesting approval of a few minor, non-substantive changes to FCC Form 855 and the related instructions. The Commission uses this form to ensure wireless service provider compliance with the hearing aid compatibility rules. The Commission is also requesting approval of certain minor, non-substantive changes to the instructions for FCC Form 655 but not to the form, itself. The Commission uses this form to ensure handset manufacturer compliance with the Commission's hearing aid compatibility rules. These changes are for clarification purposes only and do not affect the burden hours or the cost of compliance associated with the approved information collection.

The Commission's wireless hearing aid compatibility rules ensure that consumers with hearing loss have the same access to the newest and most technologically advanced handset models as consumers without hearing loss. These rules were adopted by the Commission in response to the Hearing Aid Compatibility Act, which was enacted in 1988 and is codified as amended at 47 U.S.C. 610. See Public Law 100-394, sec. 3, 102 Stat. 976, 976 (1988). In order to ensure handset manufacturer and service provider compliance with the Hearing Aid Compatibility Act and the Commission's regulations implementing the Act, the Commission has adopted handset labeling and disclosure requirements, website posting and record retention requirements, and handset manufacturer and mobile wireless service provider reporting requirements. See 47 CFR 20.19(f), (h), (i). These requirements are the subject of this information collection submission, and these regulations ensure that consumers are given the information that they need to make informed purchasing decisions and that handset manufacturers and service providers meet hearing aid-compatible handset model deployment requirements that the Commission has adopted.

The Commission is not proposing changes to the handset labeling and disclosure requirements, nor to the website posting and record retention requirements. These requirements will remain unchanged after OMB approval of this information collection submission.

With respect to FCC Form 855, the Commission is proposing to add an information icon to two of the form's questions for clarification purposes only. The two questions appear in the certification part of the form and the Commission will place a validation stop after each question to ensure that filers provide answers to the questions before proceeding to complete the form. The two information icons will be placed in the following locations and will provide as follows:

• One information icon will be placed at the end of the question requesting filers to provide the percentage of hearing-aid compatible handset models that they provided for the reporting period. The information icon will provide the following clarification: “If your company claims a HAC handset model compliance percentage of less than 85%, then you must indicate above which de minimis exception your company is claiming.” The addition of this information icon will not change what the question is asking, but will provide filers with guidance on how to complete the form.

• The second information icon will be placed at the end of the question requesting filers who maintain publicly accessible websites to provide the website address where required hearing aid compatibility information is posted. The information icon will provide the following clarification: “If your company did not have a publicly-accessible website for the reporting period, then type the following statement into the box: `For the reporting period, [name of company] did not operate a publicly-accessible website.' ” The addition of this information icon will not change what the question is asking, but will provide filers with guidance on how to complete the form.

In addition to these minor, non-substantive changes to FCC Form 855, the Commission is proposing to modify the form's instructions to provide the following clarifications:

• The filing window for the form opens on the first business day in January each year and closes on January 31, unless January 31 is not a business day. In this case, the filing window closes on the first business day after January 31. This change conforms the form's instructions concerning the filing window with the information on the Commission's wireless hearing aid compatibility website concerning the filing window.

• The instruction which states that service providers should provide the percentage of handset models that they offered for the reporting period that were hearing aid-compatible will be modified by changing the word “should” to “must,” and “must” will be bolded for emphasis. This instruction will also reference the information icon discussed above that will be added to this question for clarification purposes only.

• The instruction which states that service providers must post on their publicly accessible websites certain hearing aid compatibility information required by the Commission's rules will be modified by bolding the existing word “must” for emphasis. This instruction will also reference the information icon discussed above that will be added to this question for clarification purposes only.

• The instruction which states that service providers who are not in full compliance with the Commission's hearing aid compatibility rules must provide an attachment explaining their non-compliance will be modified by bolding the existing word “must” for emphasis.

The Commission is not seeking approval of any changes to FCC Form 655 used by handset manufacturers to show compliance with the Commission's hearing aid compatibility requirements. The Commission is proposing to modify the form's instructions to provide the following clarifications:

• The filing window for the form opens on the first business day in July each year and closes on July 31, unless July 31 is not a business day. In this case, the filing window closes on the first business day after July 31. This change conforms the form's instructions concerning the filing window with the information on the Commission's wireless hearing aid compatibility website concerning the filing window.

• The instruction which states that handset manufacturers must post on their publicly accessible websites certain hearing aid compatibility information required by the Commission's rules will be modified by bolding the existing word “must” for emphasis.

These minor, non-substantive modifications the Commission is proposing to the existing information collection will provide clarity and promote efficiency. These changes will not affect the burden estimate or compliance cost that OMB has previously approved for this information collection. After the 60-day comment period expires, the Commission will submit the information collection to OMB to obtain a full three-year clearance.

Federal Communications Commission.
Marlene Dortch,
Secretary.

[FR Doc. 2024-18124 Filed 8-13-24; 8:45 am]

BILLING CODE 6712-01-P